DEPARTMENT OF TRANSPORTATION

Maritime Administration

[Docket Number MARAD-2013-0022]

Cruise Vessel Security and Safety Training Provider Certification

AGENCY: Maritime Administration, Department of Transportation.

ACTION: Notice of Proposed New Policy.

SUMMARY: This notice provides interested parties with the opportunity to comment on the Maritime Administration's (MarAd) new policy to certify cruise vessel security and safety training providers. As a result of the enactment of the Cruise Vessel Security and Safety Act (“CVSSA”), the USCG, in consultation with the FBI, MarAd headquarters and the United States Merchant Marine Academy (USMMA), developed training standards and curricula to allow for the certification of passenger vessel security personnel, crewmembers, and law enforcement. In addition, the CVSSA provided the Maritime Administrator with the discretionary authority to certify organizations in the United States and abroad that offer the curriculum for training and certification. Pursuant to this authority, the agency is now proposing a voluntary certification program for training providers to assure the general public that passenger cruise vessel security and safety personnel have received training that is in strict compliance with the CVSSA mandated model standards. MarAd certification would serve to assist the cruise industry in identifying and obtaining qualified training services. MarAd invites public comment on this new proposed policy.

DATES: Comments must be received on or before July 22, 2013. MarAd will consider comments filed after this date to the extent practicable.

ADDRESSES: You may submit comments identified by DOT Docket Number MARAD-2013-0022 by any of the following methods:

• Web site/Federal eRulemaking Portal: Go to http://www.regulations.gov. Follow the instructions for submitting comments on the electronic docket site.

• Mail or Hand Delivery: Docket Management Facility, U.S. Department of Transportation, 1200 New Jersey Avenue SE., West Building, Room W12-140, Washington, DC 20590, between 9 a.m. and 5 p.m., Monday through Friday, except on Federal holidays.

Instructions: All submissions must include the agency name and docket number for this rulemaking.

Note: All comments received will be posted without change to http://www.regulations.gov including any personal information provided.

Docket: For access to the docket to read background documents or comments received, go to http://www.regulations.gov at any time or to Room W12-401 of the Department of Transportation, 1200 New Jersey Avenue SE., Washington, DC, between 9 a.m. and 5 p.m., Monday through Friday, except Federal Holidays.

FOR FURTHER INFORMATION CONTACT: You may contact T. Mitchell Hudson, Jr., Attorney-Advisor, Office of Chief Counsel, Maritime Administration, at (202) 366-9373. You may send mail to Mr. Hudson at Maritime Administration, 1200 New Jersey Avenue, SE., MAR 225, W24-220, Washington, DC 20590-0001. You may send electronic mail to Mitch.Hudson@dot.gov. If you have questions on viewing the Docket, call Barbara Hairston, Acting Program Manager, Docket Operations, telephone: 202-366-9826.

SUPPLEMENTARY INFORMATION: Following the enactment of the Cruise Vessel Security and Safety Act of 2010 (“CVSSA”), the USCG, MarAd, USMMA, and the FBI began work, as directed under the act, developing the standards and curricula to allow for the certification of security personnel. Published in July of 2011, the “Model Course CVSSA 11-01 Crime Prevention, Detection, Evidence Preservation and Reporting” set the standards for security personnel training. The CVSSA training requirements are applicable to passenger vessels that carry at least 250 passengers; have onboard sleeping facilities for each passenger; are on a voyage that embarks and disembarks passengers in the United States; and are not engaged on a coastwise voyage. Since July 27, 2011, passenger vessels have been required to certify to the USCG that they have at least one crewmember on board that is properly trained on prevention, detection, evidence preservation, and reporting requirements of criminal activities in the international maritime environment before entering a United States port on a voyage or voyage segment on which a United States citizen is a passenger.

MarAd is now proposing to implement a voluntary training provider certification program to help assure the general public that passenger vessel security and safety personnel have received proper training consistent with the model standards developed by USCG in coordination with MarAd, the USMMA, and the FBI, and in order to assist the industry in obtaining quality training services. Training providers seeking to be certified by MarAd will be required to submit training plans and supporting information for review. If the training provider's plans meet the model course criteria, the agency will offer its certification subject to the training provider entering into an agreement which, in addition to other terms, will subject the organization to program audits. The MarAd application procedure and program details will be available to the public on its Web site www.marad.dot.gov/cvssa.

Proposed New Policy

The agency is requesting public comment on the following proposed application procedure and training provider agreement:

How To Become a Maritime Administration (MarAd) Certified CVSSA Training Provider

Is there a model course that training providers must follow in order to become a MarAd Certified CVSSA Training Provider?

Yes. Training provider certification is voluntary. Training providers seeking certification must meet the minimum requirements found in the Model Course CVSSA 11-01; Crime Prevention, Detection, Evidence Preservation and Reporting (July 2011 version). The course was prepared by the United States Coast Guard, in consultation with MarAd and the Federal Bureau of Investigation. A copy of the Model Course is available for download at MarAd's Web site: www.marad.dot.gov/cvssa.

What is the scope of the model course?

The model course is intended to provide the knowledge required for personnel who are assigned passenger vessel security responsibilities to perform their duties as mandated in the Cruise Vessel Security and Safety Act of 2010, Public Law 111-207 (July 27, 2010) (codified at 46 U.S.C. 3507-08).

What should be included in my application for MarAd certification?

In addition to the following items, the applicant must include a signed Training Provider Agreement. (An agreement wherein the applicant agrees to an audit regimen and to additional specific requirements for certification.)

Note: Except where indicated, all items pertain to live training and E-learning courses.

1. Include the following information about your organization:

• Company name;

• Business address;

• State of incorporation;

• Articles of Incorporation; and

• Name, address, and contact information of individual that will liaise with MarAd.

2. Include a list of instructors with a description of their experience, background, and qualifications that demonstrate that they have the subject matter expertise to answer student questions, as well as the instructional capability to impart the required information to students.

3. Cruise lines must provide the names, positions, and backgrounds of shore side and shipboard staff that will evaluate, review, and monitor any element of the CVSSA course.

4. Include a course schedule, including the length of each lesson and indicate whether the lesson is presented through a classroom lecture, distance E-learning, practical demonstration, or simulator exercise and the particulars of how the assessment of students will be administered.

Note: Each lesson in the course schedule must be prefaced by a number that corresponds to the subject area listed in the Model Course teaching syllabus and outline.

5. Include a course outline, containing a summary of the teaching syllabus and learning objectives by subject area with the number of hours to be allocated for each lecture, practical demonstration, or simulation program. A detailed instructor manual must be submitted. Submissions should demonstrate the focus of the course while highlighting how the course conforms to the standards and content contained in the model course.

6. For E-Learning courses, include an estimate of the time required for a student to complete the lesson and any applicable time limits for lesson completion.

7. For E-Learning courses, include information describing the method for distance learners to obtain prompt feedback and assistance from someone meeting the same qualification standards as an instructor in a “live” course.

8. Include a sample student course evaluation form(s) or the training provider's procedures for obtaining student feedback on the effectiveness of the instruction and instructors.

9. For live training courses, include the following information for the training facility:

• address;

• description of the training facility rooms including capacity of rooms; and

• description of the equipment that will be used during the course, including all equipment to be used during hands-on training and/or testing, and any simulators or simulation programs to be used. If a simulator or simulation program is to be used, include technical specifications and brochures provided by the manufacturer.

10. Provide the maximum class size for classroom lessons and, if appropriate, for practical demonstrations or simulation exercises and assessments, including the number of the students per simulator. Provide the learner/teacher ratio and provide the organization's policy for circumstances when more than one instructor will be present during any of the lessons.

11. Include copies of all visual aids and a discussion of how audiovisual and other aids will be used during the training course, and which performance objectives they will impact. (This information may be a part of the curriculum documentation that discusses the make-up of the lesson plans.)

12. Include, as appropriate, sample copies of all student handouts, homework assignments, workbooks, and a bibliography of textbooks to be used. Include, as appropriate, sample copies of all written assessments, the grading procedure to be used, the frequency of revision, and what will be considered a passing score.

13. Include a detailed description of any practical or simulator assessments, tests, or exercises that describe the situation presented to the student; what the students must do to successfully complete each assessment and how each student's performance will be evaluated and recorded. Include a separate checklist to evaluate each practical assessment, if any, and what is considered a passing score. This checklist must include the condition under which the practical demonstration will occur, the behavior to be observed, and the criteria for successful completion of the demonstration. Include a discussion of how the instructor(s) will determine final grades by proportioning written and practical examination scores as appropriate.

14. Include a description of the training provider's policy on re-tests of failed assessments.

How long should my organization maintain course records?

A training provider must maintain a file at the training facility, or other location approved by MarAd, available for review within 3 business days of notice, for at least 5 years after the end of each student's enrollment.

What should be contained in the administrative record?

The record must be comprised of the student's assessment reports, a report of practical tests administered (if any), and a record of classroom attendance. If approved courses are taught in more than one location, or if the course is delivered by E-Learning, the records must be made available within 3 business days of notice.

How should my organization administer course completion certification?

The MarAd certified CVSSA Training Provider must first verify the identity of all students (whether live training or E-learning) who have completed a certified security training course and issue consecutively numbered certificates to students who successfully complete the approved course. Blank course completion certificates must be kept secure at all times. The paper stock of course completion certificates must contain micro printing, watermarks and/or other effective measures to help prevent production of fraudulent certificates. Training providers should consult International Maritime Organization MSC/Circ. 1089 “Guidance on Recommended Anti-Fraud Measures and Forgery Prevention Features for Seafarers' Certificates” available via the IMO Web site at www.imo.org.

Course completion certificates should be in a standardized format and contain the following:

• the name of the course as stated in the course certification letter;

• the name of the school or training provider;

• the date the training began and was completed;

• the signatures of the course instructor and director or department head; and

• the student's full name.

May my organization deviate or modify from the specifications of the Model Course and still obtain MarAd approval and certification?

Any deviations or modifications from the specifications of the Model Course must be highlighted in the application for certification with an explanation justifying the change, its benefits, and how the additional material will be covered. (One example of material that may not be covered during classroom training is found under Section 4: Security Equipment. On board training may be the more appropriate venue for the instruction in the use of the equipment. Training providers must provide documentation that security personnel that are certified, have received training in this area.)

Implementation and Administration

MarAd will evaluate the application's supporting documentation and either approve or disapprove the content of the submission. Upon approval, the organization will enter into a voluntary agreement with MarAd evidencing the applicant's intention to implement the MarAd approved training regimen. Training Provider Certification will be issued to the applicant only after the voluntary agreement has been entered into. MarAd will thereafter publish the certified training providers name and contact information on its Web site.

Where would I submit my application for certification?

A training provider seeking MarAd certification as a CVSSA Training Provider may electronically submit the required information to www.marad.dot.gov/cvssa or by mail addressed as follows: Department of Transportation, Maritime Administration, Attention: CVSSA Training Certification Program, 1200 New Jersey Ave. SE., Washington, DC 20590.

How will I know whether I was approved for certification?

MarAd will issue a course approval letter and certification. The letter will inform you that in order to maintain certification, the course must be conducted consistent with the information provided in your application.

After my course is approved and my organization is certified, are there any on-going responsibilities necessary to maintaining my certification?

Yes. It will be incumbent upon the certified training organization to notify the MarAd CVSSA certification program office in writing within 30 calendar days of any changes in information last furnished with respect to the course, teaching staff, maximum teacher/student ratio, maximum class size, training facility, or training equipment.

It will also be incumbent upon the certified training organization to maintain a copy of all students' identification for purposes of MarAd audit and law enforcement.

How will MarAd review training provider compliance?

MarAd will ensure compliance utilizing two methods-1. Audits performed by private accredited auditors on a scheduled basis and 2. Random audits performed by agency personnel. The first accredited audit will be scheduled to occur within the first 6 to 12 months of MarAd certification. Thereafter, two more accredited audits will be scheduled over years 2 and 3 with a final audit to take place no earlier than 6 months before the expiration of the MarAd certification.

Does my certification expire?

Course approvals and certification are effective for a period of five years or until the approval and certification is suspended or withdrawn.

How can I renew my organization's certification?

A request for the renewal of a course approval and certification should be submitted at least 90 days before the current approval expires. The applicant is responsible for the content of its submission. Therefore, the renewing organization should review MarAd application instructions and guidance in order to ensure that the new application is consistent with current MarAd requirements. Assuming that no updates have been made to the CVSSA training provider application process, to facilitate the renewal process, all changes should be highlighted. If there have been no changes since the last approval, a statement to the effect that the curriculum, instructors, and facilities are the same as was previously submitted and approved should accompany the submittal.

Revocation and Appeal Process

Training providers can appeal disapproval, revocation, or suspension of the certificate by appealing to the Maritime Administrator or his designated representative. The appeal must be in writing and address the specific reasons why you believe your submission should be approved or reinstated by MarAd.

MARITIME ADMINISTRATION (MarAd) CERTIFIED CVSSA TRAINING PROVIDER AGREEMENT

I, __________ (NAME) AM AUTHORIZED BY AND IN BEHALF OF __________ (THE CORPORATION) A CORPORATION ORGANIZED AND EXISTING UNDER THE LAWS OF THE STATE OF ______ (HEREINAFTER CALLED THE “CORPORATION”), WITH OFFICES AT __________ , __________ (BUSINESS ADDRESS) IN EVIDENCE OF WHICH INCORPORATION A CERTIFIED COPY OF THE ARTICLES OF INCORPORATION (OR ASSOCIATION) IS FILED HEREWITH (OR HAS BEEN FILED).

I AM AUTHORIZED BY AND IN BEHALF OF THE CORPORATION TO EXECUTE AND DELIVER THIS AGREEMENT AS A CONDITION OF MarAd APPROVAL AND CERTIFICATION:

(I) The Corporation agrees that:

(a) the content of approved training courses will conform to the syllabi of the Model Course CVSSA 11-01 Crime Prevention, Detection, Evidence Preservation and Reporting, or other model courses that may be approved by MarAd.

(b) a complete administrative record to include the student's assessment reports, a report of practical tests administered, and a record of classroom attendance, will be maintained at the training facility or other location approved by MarAd and will be made available for MarAd review within 3 business days of notice for at least 5 years from the student's date of enrollment.

(c) training courses will be conducted as proposed and in accordance with the conditions of the approval as stated in the course approval letter.

(d) all administrative records will be provided electronically to MarAd within 3 business day of a request for review by MarAd officials.

(e) it will accommodate MarAd attendance in CVSSA training classes and training facilities whether unannounced or otherwise.

(f) it will authorize course instructors to answer MarAd inquiries and provide course material as requested.

(g) the identity of students will undergo verification and be evidenced through one of the forms of photo identification listed under section (h) below. For E-Learning, equivalent arrangements for student identity will be established, controlled, provided, and administered at the training provider's centralized location.

(h) Acceptable forms of identification are:

(1) Merchant Mariner Document;

(2) National Passport;

(3) Armed Forces Identification Card;

(4) Photo identification cards issued by U.S. federal, state, or local government agencies; or

(5) Driver's license with photo of the driver.

(i) it will maintain a copy of all students' identification for purposes of MarAd audits and law enforcement.

(j) E-learning student projects and work will be reviewed by an assessor meeting the same qualification standards as an instructor in a live course.

(k) instructors or training provider personnel will not assist or coach students in any way during the evaluation process.

(l) it will issue consecutively numbered certificates to students who successfully complete the approved course.

(m) blank course completion certificates will be kept secure at all times.

(1) The paper stock of course completion certificates will contain micro printing, watermarks and/or other effective measures to help prevent production of fraudulent certificates.

(2) Course completion certificates will be in a standardized format and contain the following:

(i) the name of the course as stated in the course certification letter;

(ii) the name of the school or training provider;

(iii) the date the training began and was completed;

(iv) the signatures of the course instructor and director or department head; and

(v) the student's full name.

(II) The Corporation agrees to provide:

(a) the class schedule to MarAd one month before any CVSSA training class enrollment.

(b) copies of training textbooks upon request from MarAd.

(c) notice to MarAd of any instructor changes no fewer than 10 days prior to course enrollment.

(d) notice to MarAd in writing within 30 calendar days of any changes in information previously provided and relied upon for approval and certification including but not limited to the Corporation, the courses, teaching staff, maximum teacher/student ratio, class size, training facility, or training equipment.

(e) photographs, diagrams, or plans of the training site.

(f) a description of the equipment that will be used during the course. This includes all equipment to be used during hands-on training and/or testing, and any simulators or simulation programs to be used. If a simulator or simulation program is to be used, include technical specifications and brochures provided by the manufacturer.

(g) a request for renewal of course approval and certification at least 90 days before the approval and certification expiration date.

(III) The Corporation agrees to independent audits of its CVSSA Training Program within 30 days of being directed by MarAd and:

(a) carried out at the expense of the Corporation and performed by a MarAd approved independent third party.

(b) the results of which will be provided directly to MarAd by the third party auditor.

(c) will instruct its third party auditor to provide the corrective action (CA) plan to MarAd.

(d) subject to MarAd's right to reject the CA plan and to provide its own CA plan directly to the training provider.

(e) will allow implementation of a MarAd corrective action plan if the third party audit CA plan is rejected by MarAd.

(f) will report any and all training non-conformities immediately to MarAd.

(IV) The Corporation acknowledges, understands, and further agrees that:

(a) MarAd course approval and provider certification are effective for a period of five years from the date of the approval letter; or until the approval and certification is revoked or suspended.

(b) MarAd may suspend or revoke its approval and certification at any time, without notice and with immediate effect.

(c) upon written notice of suspension or revocation of certification, the Corporation will immediately cease any display, marketing or otherwise, of MarAd certification.

(d) MarAd disapproval, or the suspension or revocation of approval and certification may only be appealed in writing to the Maritime Administrator or his designated representative and by addressing the specific reasons why the approval and certification should be made or reinstated.

__________

Signature of Authorized Official, Title, Date

PENALTY FOR FALSE STATEMENT: A fine or imprisonment, or both, are provided for violation of the proscriptions contained in 18 U.S.C. § 1001 (see also 18 U.S.C. §§ 286 and 287).

SPECIFIC ISSUES FOR COMMENT:

In addition to seeking general comments on the proposed new policy, the agency is requesting public comment on the following issues:

1. How best to make MarAd certification readily apparent to the general public;

2. Whether foreign based training providers will be faced with legal barriers or other special challenges in submitting a complete application or complying with program requirements; and

3. Whether the proposed process raises specific legal or practical issues for the program participant or the cruise line passenger.

POLICY ANALYSIS AND NOTICES:

Consistent with the Administrative Procedures Act and Department of Transportation rulemaking policy, MarAd is publishing this proposed policy in the Federal Register to indicate how it plans to exercise the discretionary authority provided by Section 3508 of the Cruise Vessel Security and Safety Act of 2010. This proposed policy would establish a voluntary program in which successful applicants would obtain MarAd cruise vessel security and safety training provider certification.

Paperwork Reduction Act: This proposed policy would establish a new requirement for the collection of information for all program participants. The Office of Management and Budget (OMB) will be requested to review the information collection requirements under the Paperwork Reduction Act of 1995 (44 U.S.C. Section 3501, et seq.).

In accordance with the Paperwork Reduction Act, this document announces MarAd's intentions to request public comments regarding the collection of information arising under this proposed policy.

—Copies of this notice and information collection request may be obtained from the Office of Security, MAR-420, Suite W25-308, 1200 New Jersey Avenue SE., Washington, DC 20590.

—Title of Information Collection: CVSSA Training Provider Certification Program

—OMB Control Number: Pending.

—Form Number: None.

—Expiration Date of Approval: Three years following approval by the Office of Management and Budget.

—Summary of Collection of Information: Persons or Entities seeking to obtain or maintain MarAd certification as CVSSA Training Providers. Persons or Entities seeking training provider certification must submit certain information described in the proposed application procedure and sign the training provider agreement. No particular form is required for the application procedure. However, all information described in the application procedure will be required to be submitted and is necessary for proper review of the applicant's qualifications. The training provider agreement will be required to follow the published format and be signed by the successful applicant before MarAd will issue its certification. To maintain training provider certification, training providers will be required to submit to random audits and to provide accredited audit reports to MarAd on a scheduled basis.

—Need for and Use of the Information: The information collected will be used to analyze the applicant's methods and process of instruction in providing information that is comprehensive in scope and consistent with the USCG Model Course. Information arising under training provider audits will be used to ensure that certified training providers remain qualified throughout the certification period. The training provider agreement is necessary to establish an understanding between the agency and the training provider that certain terms must be met in order to hold and maintain MarAd training provider certification. Without this information, MarAd would not be able to offer the benefit of its training provider certification to program applicants. In addition, MarAd training provider certification will assist the USCG in ensuring cruise vessel CVSSA compliance.

—Description of Respondents: Individuals, partnerships, or corporations seeking training provider certification.

—Annual Responses: Once the Program is implemented, the agency anticipates between 25-35 submissions each year. Certification is anticipated to span a period of 5 years before expiration and renewal. However, the agency does anticipate the collection of information annually from the same estimated number of training providers seeking to maintain their certification by complying with agency audits.

—Annual Burden: 40 hours per program participant.

(Authority: The Cruise Vessel Security and Safety Act of 2010, 46 U.S.C. § 3508)

* * * * *

Dated: May 17, 2013
By Order of the Maritime Administrator.
Julie Agarwal,
Secretary, Maritime Administration.

[FR Doc. 2013-12300 Filed 5-22-13; 8:45 am]

BILLING CODE 4910-81-P